ENVIRONMENTAL PROTECTION AGENCY

40 CFR Part 52

[EPA-R04-OAR-2015-0292; FRL-9960-58-Region 4]

Air Plan Approval; Georgia; Inspection and Maintenance Program Updates

AGENCY: Environmental Protection Agency (EPA).

ACTION: Proposed rule.

SUMMARY: The Environmental Protection Agency (EPA) is proposing to approve the State Implementation Plan (SIP) revision submitted by the State of Georgia, through the Georgia Environmental Protection Division on August 6, 2014, pertaining to rule changes for the Georgia Inspection and Maintenance program. EPA is approving this SIP revision as modified by GA EPD through a December 1, 2016, partial withdrawal letter. EPA is proposing this action because the State has demonstrated that these portions of the SIP revision are consistent with the Clean Air Act.

DATES: Written comments must be received on or before May 10, 2017.

ADDRESSES: Submit your comments, identified by Docket ID No. EPA-R04-OAR-2015-0292 at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Richard Wong, Air Regulatory Management Section, Air Planning and Implementation Branch, Air, Pesticides and Toxics Management Division, U.S. Environmental Protection Agency, Region 4, 61 Forsyth Street SW., Atlanta, Georgia 30303-8960. Mr. Wong can be reached via telephone at (404) 562-8726 or via electronic mail at wong.richard@epa.gov.

SUPPLEMENTARY INFORMATION: In the Final Rules Section of this Federal Register, EPA is approving the State's August 6, 2014 SIP revision as a direct final rule without prior proposal because the Agency views this as a noncontroversial submittal and anticipates no adverse comments. As discussed in the direct final rule, GA EPD submitted a partial withdrawal letter to EPA on December 1, 2016, withdrawing the proposed revision to Georgia Rule 391-3-20-.06, “On Road Testing,” from the SIP revision. Therefore, that rule is no longer part of the SIP revision that EPA is proposing to approve. A detailed rationale for the approval is set forth in the direct final rule and incorporated herein by reference. If no adverse comments are received in response to this rule, no further activity is contemplated. If EPA receives adverse comments, the direct final rule will be withdrawn and all adverse comments received will be addressed in a subsequent final rule based on this proposed rule. EPA will not institute a second comment period on this document. Any parties interested in commenting on this document should do so at this time.

Dated: March 15, 2017.
V. Anne Heard,
Acting Regional Administrator, Region 4.

[FR Doc. 2017-07033 Filed 4-7-17; 8:45 am]

BILLING CODE 6560-50-P